DEPARTMENT OF AGRICULTURE

Forest Service

36 CFR Part 242

DEPARTMENT OF THE INTERIOR

Fish and Wildlife Service

50 CFR Part 100

RIN 1018-AH77

Subsistence Management Regulations for Public Lands in Alaska, Subpart C and Subpart D—2002 Subsistence Taking of Fish and Shellfish Regulations; Correction

AGENCY: Forest Service, USDA; Fish and Wildlife Service, Interior.

ACTION: Final rule; correction.

SUMMARY: This correction amends the Subsistence Management Regulations for Public Lands in Alaska, published in the Federal Register on February 7, 2002 (67 FR 5890), implementing the subsistence priority for rural residents of Alaska under Title VIII of the Alaska National Interest Lands Conservation Act of 1980. The February 7, 2002, final rule established regulations for seasons, harvest limits, methods, and means relating to the taking of fish and shellfish for subsistence uses during the 2002-03 regulatory year. This document corrects an inadvertent omission of a permit requirement for freshwater fish in the Prince William Sound Fishery Management Area.

DATES: This correction to § __.27 is effective March 1, 2002, through February 28, 2003.

FOR FURTHER INFORMATION CONTACT: Thomas H. Boyd, Office of Subsistence Management, U.S. Fish and Wildlife Service, telephone (907) 786-3888. For questions specific to National Forest System lands, contact Ken Thompson, Regional Subsistence Program Manager, USDA-Forest Service, Alaska Region, telephone (907) 786-3592.

SUPPLEMENTARY INFORMATION:

Background

On February 7, 2002, the Secretaries published a final rule (67 FR 5890) to establish regulations for seasons, harvest limits, and methods and means related to taking of fish and shellfish for subsistence uses during the 2002 regulatory year. These regulations are subject to an annual review cycle, so the regulations set forth in the February 7, 2002, final rule are effective March 1, 2002, through February 28, 2003. Among many other changes, the February 7, 2002, final rule included changes to the regulations governing subsistence fishing and shellfishing in the Prince William Sound Fishery Management Area. In making revisions to the Prince William Sound regulations, we inadvertently omitted a previously established requirement.

Prior to publication of the February 7, 2002, final rule (67 FR 5890, 5903), the text in 36 CFR 242 (i)(11)(xii) and (xiii) and 50 CFR 100 (i)(11)(xii) and (xiii) read as follows:

(xii) Except as provided in this section, you may take fish other than salmon and freshwater fish species for subsistence purposes without a subsistence fishing permit.

(xiii) You may take salmon and freshwater fish species only under authority of a subsistence fishing permit.

In publishing the February 7, 2002, final rule, the words “and freshwater fish species” were inadvertently removed from the subparagraphs stated above. Through this final rule correction, we are simply correcting the text in 36 CFR 242 (i)(11)(xii) and (xiii) and 50 CFR 100 (i)(11)(xii) and (xiii) to read as it did prior to publication of the February 7, 2002, final rule. Therefore, we are reinstating the permit requirement for freshwater fish in the Prince William Sound Fishery Management Area that was removed in error by the February 7, 2002, final rule.

We are making no further changes to the February 7, 2002, final rule. The basis and required determinations for that rule are the same as for this final rule, which simply corrects an error in the February 7, 2002, rule.

Accordingly, make the following corrections to FR Doc. 02-1919 published at 67 FR 5890 on February 7, 2002:

PART__—SUBSISTENCE MANAGEMENT REGULATIONS FOR PUBLIC LANDS IN ALASKA—[CORRECTED]

§ __.27 [Corrected]

1. On page 5903, in column 1, in 36 CFR part 242 and 50 CFR part 100, § __.27(i)(11)(xii) and (i)(11)(xiii) are corrected to read as follows:

§ __.27 Subsistence taking of fish.

* * * * *

(i) * * *

(11) * * *

(xii) Except as provided in this section, you may take fish other than salmon and freshwater fish species for subsistence purposes without a subsistence fishing permit.

(xiii) You may take salmon and freshwater fish species only under authority of a subsistence fishing permit.

* * * * *

Dated: May 3, 2002.
Kenneth E. Thompson,
Subsistence Program Coordinator, USDA-Forest Service.
Thomas H. Boyd,
Acting Chair, Federal Subsistence Board.

[FR Doc. 02-13153 Filed 5-24-02; 8:45 am]

BILLING CODE 3410-11-P; 4310-55-P